DEPARTMENT OF HEALTH AND HUMAN SERVICES

Centers for Disease Control and Prevention

Disease, Disability, and Injury Prevention and Control Special Emphasis Panel (SEP): Evaluating Locally-Developed (Homegrown) HIV Prevention Interventions for African-American and Hispanic/Latino Men Who Have Sex With Men (MSM), Funding Opportunity Announcement (FOA) Number PA 09-007 and Operational Research To Improve the Implementation of Evidence-Based Interventions That Are Supported by the Diffusion of Effective Behavioral Interventions (DEBI) Project, FOA Number PA 09-008

In accordance with Section 10(a)(2) of the Federal Advisory Committee Act (Pub. L. 92-463), the Centers for Disease Control and Prevention (CDC) announces the aforementioned meeting.

Time and Date: 8 a.m.-5 p.m., April 28, 2009 (Closed).

Place: Sheraton Gateway Hotel, Atlanta Airport, 1900 Sullivan Road, Atlanta, GA 30337, Telephone (770) 997-1100.

Status: The meeting will be closed to the public in accordance with provisions set forth in Section 552b(c)(4) and (6), Title 5 U.S.C., and the Determination of the Director, Management Analysis and Services Office, CDC, pursuant to Public Law 92-463.

Matters To Be Discussed: The meeting will include the review, discussion, and evaluation of applications received in response to “Evaluating Locally-Developed (Homegrown) HIV Prevention Interventions for African-American and Hispanic/Latino Men Who Have Sex with Men (MSM), FOA Number PA 09-007,” and “Operational Research to Improve the Implementation of Evidence-Based Interventions that are Supported by the Diffusion of Effective Behavioral Interventions (DEBI) Project, FOA Number PA 09-008.”

Contact Person for More Information: Gregory Anderson, M.P.H., M.S., Scientific Review Administrator, Strategic Science and Program Unit, Office of the Director, Coordinating Center for Infectious Diseases, CDC, 1600 Clifton Road, Mailstop E-60, Atlanta, GA 30333, Telephone: (404) 498-2275.

The Director, Management Analysis and Services Office, has been delegated the authority to sign Federal Register notices pertaining to announcements of meetings and other committee management activities, for both CDC and the Agency for Toxic Substances and Disease Registry.

Dated: March 20, 2009.
Elaine L. Baker,
Director, Management Analysis and Services Office, Centers for Disease Control and Prevention.

[FR Doc. E9-6854 Filed 3-26-09; 8:45 am]

BILLING CODE 4163-18-P